DEPARTMENT OF ENERGY

Federal Energy Regulatory Commission

[Docket No. RP01-359-001]

Dominion Transmission, Inc.; Notice of Status Report and Request for Waiver

May 22, 2001.

Take notice that on May 15, 2001, Dominion Transmission Inc. (DTI) tendered for filing a status report reconciling actual stranded costs and surcharge recoveries under DTI's Stranded Account No. 858 tracking mechanism for the annual period ending April 30, 2001.

DTI states that the purpose of this filing is to comply with its commitment to file a report with the Commission to reconcile its surcharge collections and actual costs, as it agreed to do in its earlier March 30, 2001 filing. Further, DTI requests waiver of Section 18.2 of its GT&C of its tariff, so that it can return excess collections of $177,306, with interest, in its next annual Transportation Cost Rate Adjustment (TCRA) filing to become effective November 1, 2001 rather than through the stranded cost tracking mechanism of its tariff.

DTI states that copies of its letter of transmittal and enclosures are being mailed to its customers and to interested state commissions.

Any person desiring to protest said filing should file a protest with the Federal Energy Regulatory Commission, 888 First Street, NE., Washington, DC 20426, in accordance with section 385.211 of the Commission's Rules and Regulations. All such protests must be filed on or before May 30, 2001. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

David P. Boergers,
Secretary.

[FR Doc. 01-13361 Filed 5-25-01; 8:45 am]

BILLING CODE 6717-01-M